DEPARTMENT OF EDUCATION

Applications for New Awards; Technical Assistance and Dissemination To Improve Services and Results for Children With Disabilities—State Technical Assistance Projects To Improve Services and Results for Children Who Are Deaf-Blind and National Technical Assistance and Dissemination Center for Children Who Are Deaf-Blind

AGENCY: Office of Special Education and Rehabilitative Services, Department of Education.

ACTION: Notice.

Overview Information:

Technical Assistance and Dissemination to Improve Services and Results for Children with Disabilities—State Technical Assistance Projects to Improve Services and Results for Children Who Are Deaf-Blind and National Technical Assistance and Dissemination Center for Children Who Are Deaf-Blind Notice inviting applications for new awards for fiscal year (FY) 2013.

Catalog of Federal Domestic Assistance (CFDA) Number: 84.326T.

DATES:

Applications Available: July 1, 2013.

Deadline for Transmittal of Applications: August 15, 2013.

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priority: In accordance with 34 CFR 75.105(b)(2)(v), this priority is from allowable activities specified or otherwise authorized in the statute (see sections 663 and 681(d) of the Individuals with Disabilities Education Act (IDEA), 20 U.S.C. 1463 and 1481(d)).

Absolute Priority: For FY 2013 and any subsequent year in which we make awards from the list of unfunded applicants from this competition, this priority is an absolute priority. Under 34 CFR 75.105(c)(3) we consider only applications that meet this priority.

This priority is:

State Technical Assistance Projects to Improve Services and Results for Children Who Are Deaf-Blind and National Technical Assistance and Dissemination Center for Children Who Are Deaf-Blind.

Background:

The purpose of this priority is to support State Technical Assistance Projects to Improve Services and Results for Children Who Are Deaf-Blind and to support a National Technical Assistance and Dissemination Center for Children Who Are Deaf-Blind. The State Technical Assistance Projects will help State educational agencies (SEAs), Part C lead agencies (LAs), local educational agencies (LEAs), early intervention services (EIS) providers, teachers, service providers, and families to address the educational, related services, transitional, and early intervention needs of children who are deaf-blind to ensure that these children will graduate from high school ready for college and a career.

The National Technical Assistance Center will provide technical assistance and support to the State Technical Assistance Projects in addressing these needs, including by working in concert with States' Deaf-Blind Technical Assistance Projects, as appropriate, to provide specialized TA, training, dissemination, and informational services to agencies and organizations, professionals, families, and others involved in providing services to children who are deaf-blind.

The Individuals with Disabilities Education Act (IDEA) requires that the Secretary reserve a portion of IDEA Part D funds each year to address the needs of children with deaf-blindness (see section 682(d)(1)(A) of IDEA, 20 U.S.C. 1482(d)). Authorized activities include providing TA to professionals and others involved in providing services that promote academic achievement and improved results for children who are deaf-blind. The services to be provided include TA on implementing evidence-based practices to schools and agencies serving children who are deaf-blind and their families to improve educational results and functional outcomes. For purposes of this notice, the term “children who are deaf-blind” refers to infants, toddlers, children, youth, and young adults (birth-21) who are deaf-blind.

Children who are deaf-blind are among the most vulnerable, at-risk students because they have varying degrees of hearing and vision loss that is often complicated by other disabilities or health issues. In the early 1970s, children who were deaf-blind were primarily served in segregated programs in residential schools and State institutions.

Today, more than 60 percent of children who are deaf-blind attend local schools rather than separate schools or facilities. Sixty-five percent of elementary school-age children who are deaf-blind spend at least a portion of their day in a regular classroom in their local school (National Consortium on Deaf-Blindness, 2012). As a result, direct, targeted, and intensive TA to staff in LEAs, schools, EIS providers, and classrooms is needed to ensure a free appropriate public education (FAPE) for children who are deaf-blind (Kamenopoulou, 2012).

Through the projects that the Office of Special Education Programs (OSEP) has supported and other research, we know that direct and intensive supports and services are critical in order for children who are deaf-blind to succeed in a general education environment. Although improvements have been made in recent years, many of the approximately 10,000 children who are deaf-blind remain isolated and disconnected from people and activities in their homes, schools, and communities because they are not provided the individualized supports necessary to access visual and auditory information and overcome other barriers to social inclusion and participation (Kamenopoulou, 2012). Without these individualized supports to access visual and auditory information (i.e., environmental information, such as who is present, what is being said, and what activities are occurring), children who are deaf-blind are at greater risk for not attaining age-appropriate milestones in communication and language, social skills, and activities of daily living, which in turn affects their educational outcomes (Emerson & Bishop, 2012). Consequently, children who are deaf-blind often exit school at age 22 without viable postsecondary educational opportunities, employment, or independent living options (Smale, 2010).

Further, because deaf-blindness is a very low-incidence disability, most SEAs, LEAs, LAs, and EIS providers lack the necessary program supports and services, and sufficient personnel with the specialized training, experience, and skills, needed to provide appropriate early intervention, special education, and related services to children who are deaf-blind (Bruce, 2007; National Center on Severe and Sensory Disabilities, 2009; National Center on Low-Incidence Disabilities, 2005). In addition, because children who are deaf-blind are living at home instead of in residential settings, their families, schools, and EIS providers require extensive support to ensure that these children remain in community-based educational and living environments (Kamenopoulou, 2012).

State Deaf-Blind Technical Assistance Projects

Following the enactment of IDEA in 1975, OSEP developed a national TA system comprised of State Deaf-Blind Technical Assistance Projects that was designed to ensure that support was available for children who are deaf-blind and who attended their local schools.

In 2008, the Department funded 51 five-year State Deaf-Blind Technical Assistance Projects to facilitate collaborative partnerships among family members of children who are deaf-blind; early intervention, special and regular education, and related services personnel; and SEAs, LEAs, LAs, and EIS providers to develop and implement individualized supports designed to improve children's educational results and functional outcomes.

In concert with the National Technical Assistance and Dissemination Center for Children Who Are Deaf-Blind (National Center), this direct, targeted, and intensive TA provided by State Deaf-Blind Technical Assistance Projects to EIS providers, LEAs, schools, and classrooms has helped to ensure that family members, EIS providers, special and regular education teachers, and related services personnel have access to the specialized training and tools needed to address the early intervention, educational, related services, and secondary transition needs of children who are deaf-blind.

National Technical Assistance and Dissemination Center

In 2006, the Department funded the National Center to provide specialized TA, training, dissemination, and informational services to State Deaf-Blind Technical Assistance Projects. In 2011, the Secretary extended the grant to the National Center for an additional two years. Working in concert with State Deaf-Blind Technical Assistance Projects, the National Center provides specialized training and other supports for SEAs, LAs, families of children who are deaf-blind, and other agencies and organizations that are responsible for providing early intervention, special education, related services, and secondary transition services for children through age 26 who are deaf-blind (Notice Inviting Applications for New Awards for FY 2006; 70 FR 76040).

The National Center's activities have led to improvements in direct, targeted, and intensive TA services. In cooperation with the Department, the National Center developed training for State Deaf-Blind Technical Assistance Project staff in order to increase their participation in a collaborative network of State deaf-blind TA projects. Using advances in communication and social media, the National Center further facilitated, in collaboration with the State Deaf-Blind Technical Assistance Projects, the delivery of TA and training by providing critical tools for teachers and service providers to use at the classroom level. For further information on the current National Center, go to www.nationaldb.org/.

This priority seeks to build upon the work of the State Deaf-Blind Technical Assistance Projects and the National Center to further improve services and results for children who are deaf-blind. Specifically, through this priority, our goal is to: Ensure the delivery of high-quality TA and training to personnel in schools, classrooms, and EIS providers where children who are deaf-blind are served to improve their academic and social outcomes; empower children who are deaf-blind to engage in self-advocacy so that they are better positioned for independent living; increase the ability of SEAs, LEAs, LAs, EIS providers, and other agencies to use evidence-based practices to improve outcomes for children who are deaf-blind; increase the ability of SEAs, LEAs, LAs, EIS providers, and other agencies to identify and adopt effective policies and practices to appropriately identify and serve children who are deaf-blind; and ensure that data are gathered and reported to the National Center for the annual National Child Count of children who are deaf-blind.

For the first time, we will also be allowing eligible entities to compete to serve multi-State regions. We hope to improve both the quality of the TA and other services provided through these projects and the efficiency with which the services are provided by giving States the flexibility to apply directly for funding, as they have in the past, to participate as a member of a multi-State consortium, or to participate in a regional TA project.

Priority:

For the purpose of this competition, we have separated the absolute priority into two focus areas—State and Multi-State Technical Assistance Projects (Focus Area A) and a National Technical Assistance and Dissemination Center (Focus Area B). Applicants must identify whether they are applying under Focus Area A, Focus Area B, or both. As the program and application requirements for the two focus areas are different, applicants must ensure that they have met all applicable requirements.

Focus Area A: State and Multi-State Technical Assistance Projects to Improve Services and Results for Children Who Are Deaf-Blind.

Under Focus Area A, the Department will fund grants to establish and operate State or multi-State Deaf-Blind Technical Assistance Projects (projects) to improve services and results for children who are deaf-blind. Grants are available to support projects in all States. The District of Columbia, Puerto Rico, the United States Virgin Islands, and the outlying areas and freely associated States are States for purposes of this priority. Because the Bureau of Indian Affairs is not a State, it will not be eligible for a State grant under this priority. Funds awarded under this priority may not be used to provide direct early intervention services under Part C of IDEA, or direct special education and related services under Part B of IDEA.

Projects funded under this priority must, at a minimum: (1) Deliver TA and training necessary to improve outcomes for children who are deaf-blind to personnel in the schools, classrooms, or EIS providers, where a child who is deaf-blind is served; (2) through collaboration with the federally funded Parent Centers (National and Regional Parent Technical Assistance Centers, Parent Training and Information Centers and Community Parent Resource Centers), provide training and supports to families of children who are deaf-blind so that they can successfully advocate on behalf of their children and help ensure that their children are better positioned for independent living; (3) increase the ability of SEAs, LEAs, LAs, EIS providers, and other agencies to use evidence-based practices to improve outcomes for children who are deaf-blind, including ensuring that these children will graduate from high school ready for college and a career; (4) increase the ability of SEAs, LEAs, LAs, EIS providers, and other agencies to develop policies and practices to improve outcomes for children who are deaf-blind; and (5) provide data to the National Center for the annual National Child Count of children who are deaf-blind.

In addition to these programmatic requirements, to be considered for funding under Focus A of this absolute priority, applicants must meet the following application and administrative requirements. We encourage innovative approaches to meet them:

Application Requirements. An applicant must—

(a) Demonstrate, in the narrative section of the application under “Significance of the Project,” how the proposed project will—

(1) Provide EIS providers; special education teachers; regular education teachers; related services personnel; and SEA, LEA, LA, and EIS provider administrators with the training and information needed to develop and implement individualized supports to ensure that children who are deaf-blind have access to the general education curriculum and will graduate from high school ready for college and a career;

(2) Ensure that family members of children who are deaf-blind have the training and information needed to maintain and improve productive partnerships with service providers.

To address the requirements of paragraphs (1) and (2), the applicant must—

(i) Describe applicable State, regional, or local data (and, in the case of an application for a consortium or region, data for each State that the consortium or region proposes to serve) demonstrating the applicant's knowledge of the training and information needs of EIS providers, special and regular education teachers, related services personnel, and family members identified in paragraphs (1) and (2), taking into account the critical needs of the diverse deaf-blind population and the geographical distribution of children who are deaf-blind;

(ii) Demonstrate knowledge of current educational issues and policy initiatives in educating children who are deaf-blind, including any State-specific policy initiatives and how the applicant will support their implementation; and

(iii) Describe the current state of practice in implementing effective TA for SEAs, LEAs, LAs, and EIS providers and others who provide services that promote academic achievement and improved results for children who are deaf-blind.

(3) Improve educational outcomes for children who are deaf-blind, and the likely magnitude or importance of the outcomes.

(b) Demonstrate, in the narrative section of the application under “Quality of the Project Services,” how the proposed project will—

(1) Identify the TA and training needs of the intended recipients;

(2) Ensure that services meet the needs of the intended recipients and that any products are first approved by the OSEP project officer and then developed in coordination with the National Center;

(3) Achieve its goals, objectives, and intended outcomes. To meet this requirement, the applicant must provide—

(i) Measureable intended project outcomes; and

(ii) The theory of action (i.e., logic model) on how the proposed project will achieve its intended outcomes.

(4) Use a conceptual framework to guide the development of project plans and activities, describing any underlying concepts, assumptions, expectations, beliefs, or theories, as well as the presumed relationship or linkages among these variables, and any empirical support for this framework;

(5) Be based on current research and evidence-based practices. To meet this requirement, the applicant must describe—

(i) The current research and evidence-based practices on ensuring access to the general education curriculum and improving educational results and functional outcomes for children who are deaf-blind, including graduating from high school ready for college and a career;

(ii) How the project will incorporate current research and evidence-based practices on effective training and professional development, and how the project will incorporate the training and TA to the family members and practitioners identified in paragraph (a); and

(iii) The process the proposed project will use to incorporate current research and evidence-based practices in the development and delivery of its products and services.

(6) Develop and provide services that are of sufficient quality, intensity, and duration to achieve the intended outcomes of the proposed project. To address this requirement, the applicant must describe—

(i) Its proposed activities to identify or develop a knowledge base of evidence-based practices addressing the early intervention, related services, educational, transitional, and functional needs of children who are deaf-blind;

(ii) Its proposed approach to universal, general TA,¹ including the intended recipients of products and services;

¹ Within the context of State or multi-State Deaf-Blind Projects, “universal, general TA” means TA and information provided to independent users through their own initiative resulting in minimal interaction with project staff and including one-time, invited or offered conference presentations by project staff. This category of TA also includes information or products, such as newsletters, guidebooks, or research syntheses, downloaded from the project's Web site by independent users. Brief communications by project staff with recipients, either by telephone or email, are also considered universal, general TA.

(iii) Its proposed approach to targeted, specialized TA,² including the intended recipients of products and services; and

² Within the context of State or multi-State Deaf-Blind Projects, “targeted, specialized TA” means TA service based on needs common to multiple recipients and not extensively individualized. A relationship is established between the TA recipient and one or more project staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(iv) Its proposed approach to intensive, sustained TA,³ including the intended recipients of products and services. To address this requirement, the applicant must describe—

³ Within the context of State or multi-State Deaf-Blind Projects, “intensive, sustained TA” means TA services often provided on-site and requiring a stable, ongoing relationship between the project staff and the TA recipient. “TA services” are defined as a negotiated series of activities designed to reach a valued outcome. This category of TA should result in changes to policy, program, practice, or operations that support increased recipient capacity and improved outcomes at one or more systems levels.

(A) Its proposed approach to measure the readiness of the SEAs, LEAs, LAs, EIS providers, and Parent Centers to work with the proposed project, including their commitment to the project initiatives, current infrastructure, available resources, ability to build supports for families, and ability to enable SEAs, LEAs, LAs, and EIS providers to provide TA and training to teachers, EIS providers, and other service providers;

(B) Its proposed plan for assisting LEAs and EIS providers to build professional development systems based on the current research and evidence-based practices on effective training and professional development; and

(C) Its proposed plan for working with individuals and entities at each level of the education system (e.g., SEAs, LEAs, LAs, EIS providers, schools, and families) to ensure communication among the different groups and that there are systems in place to support the use of best practices for educating children who are deaf-blind.

(7) Implement services in collaboration with the National Center to maximize effectiveness of the TA within the State(s) served. To address this requirement, the applicant must describe—

(i) How the proposed project will use technology to achieve the proposed project outcomes;

(ii) With whom the proposed project will collaborate and the intended outcomes of this collaboration;

(iii) How the proposed project will use non-project resources to achieve the proposed project outcomes; and

(iv) How the applicant will facilitate States' ability to use and benefit from the National Center's initiatives, products, and TA, including those initiatives that cross regional and consortium boundaries.

(c) Demonstrate, in the narrative section of the application under “Quality of the Evaluation Plan,” how—

(1) The proposed project will collect and analyze data on specific and measurable goals, objectives, and outcomes of the project. To address this requirement, the applicant must describe—

(i) The proposed evaluation methodologies, including instruments, data collection methods, and possible analyses;

(ii) The proposed standards or targets for determining effectiveness; and

(iii) The proposed methods for collecting data on implementation supports and fidelity of implementation.

(2) The proposed project will use the evaluation results to examine the effectiveness of the project's implementation strategies and the progress toward achieving intended outcomes; and

(3) The methods of evaluation will produce quantitative and qualitative data that demonstrate whether the project achieved the intended outcomes.

(d) Demonstrate, in the narrative section of the application under “Adequacy of Project Resources,” how—

(1) The proposed project will encourage applications for employment from persons who are members of groups that have traditionally been underrepresented based on race, color, national origin, linguistic diversity, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as appropriate; and

(ii) Timelines and milestones for accomplishing the project tasks.

(2) Key project personnel, and any consultants and subcontractors, will be allocated to the project and the appropriateness and adequacy of these time allocations to achieve the project's intended outcomes;

(3) The proposed management plan will ensure that the products and services provided are of high quality;

(4) The proposed project will benefit from a diversity of perspectives, including families, educators, TA providers, researchers, and policy makers, among others, in its development and operation;

(5) If applicable, the members of a consortium or region will receive appropriate services; and

(6) If applicable, the proposed project will ensure that the distribution of resources is equitable within a consortium or region.

(f) In the narrative under “Required Project Assurances” or appendices as directed, meet the following application requirements—

(1) Include in Appendix A a logic model that depicts, at a minimum, the goals, activities, outputs, and intended outcomes of the proposed project. A logic model communicates how a project will achieve its intended outcomes and provides a framework for both the formative and summative evaluations of the project.

Note: The following Web sites provide more information on logic models: www.researchutilization.org/matrix/logicmodel_resource3c.html and http://www.tadnet.org/pages/589;

(2) Include in Appendix A a visual representation of the conceptual framework, if a visual representation is developed;

(3) Include in Appendix A charts and timelines, as appropriate, to illustrate the management plan described in the narrative;

(4) Include in the budget attendance at the following:

(i) A one-day planning meeting preceding the project directors' conference held in Washington, DC, in coordination with the National Center and an annual planning meeting with the OSEP project officer and other relevant staff during each subsequent year of the project period;

(ii) A two and one-half day project directors' conference in Washington, DC, during each year of the project period.

(5) Maintain a Web site that meets government or industry-recognized standards for accessibility.

Note: Any entity applying to provide services for a region is required to propose to serve all of the States in the region. This regional applicant must notify the SEAs in each of the States in the region of its intention to apply for funding, but is not required to obtain approval from all of the SEAs in the region in order to be eligible to apply for funding. A State may choose to be served by the regional applicant in order to participate in the program, or may apply for funding as part of a multi-State consortium or by itself, as discussed in more detail below. Individual States would not have to submit applications if they opted to be served by the regional applicant.

States are also invited to form consortia to apply for funding under Focus Area A of this priority in accordance with EDGAR in 34 CFR 75.127 to 75.129. A consortium may be comprised of any group of States and would not be bound by the previously described predefined regions.

Focus Area B: National Technical Assistance and Dissemination Center for Children Who Are Deaf-Blind.

Under Focus Area B, the Department will fund a cooperative agreement to establish and operate a National Center on Deaf-Blindness that must, at a minimum: (1) Increase the ability of State and multi-State deaf-blind projects to assist personnel in SEAs, LEAs, LAs, and EIS providers to use evidence-based practices and products to improve outcomes for children who are deaf-blind; (2) develop evidence-based tools and broadly disseminate evidence-based tools to State or multi-State deaf-blind projects and individuals and entities at each level of the education system to improve outcomes for children who are deaf-blind; (3) in collaboration with the Parent Centers, increase the ability of State or multi-State deaf-blind projects to provide training and supports to families of children who are deaf-blind so that they can successfully advocate on behalf of their children and help ensure that their children are better positioned for independent living; (4) enable State or multi-State deaf-blind projects to develop policies and practices to improve outcomes for children who are deaf-blind; and (5) conduct an annual National Child Count of children who are deaf-blind, ensuring that accurate data to inform practice is presented in a way that is useful to States.

To be considered for funding under Focus B of this absolute priority, applicants must meet the application and administrative requirements contained in this priority. We encourage innovative approaches to meet these requirements, which are as follows:

Application Requirements. An applicant must—

(a) Demonstrate, in the narrative section of the application under “Significance of the Project,” how the proposed project will work collaboratively with the State Technical Assistance Projects to—

(1) Ensure that State and multi-state deaf-blind projects, SEAs, LEAs, LAs, EIS providers, and organizations serving family members of children who are deaf-blind have the training and information needed to enable them to maintain and improve productive partnerships with EIS providers, special education teachers, regular education teachers, and related services personnel; and

(2) Provide State and multi-State deaf-blind projects, SEAs, LEAs, LAs, EIS providers, and organizations serving family members of children who are deaf-blind with the training and information needed to ensure that EIS providers; special education teachers; general education teachers; related services personnel; and SEA, LEA, LA, and EIS provider personnel have the skills to develop and implement individualized supports to ensure children who are deaf-blind have access to the general education curriculum and graduate from high school ready for college and a career.

To address the requirements of paragraphs (1) and (2) the applicant must—

(i) Describe applicable national, State, regional, or local data demonstrating knowledge of the training and information needs of family members and EIS providers, special education teachers, regular education teachers, and related services personnel, taking into account the critical needs of the diverse deaf-blind population, the geographical distribution of children who are deaf-blind, and the placement opportunities for these children in inclusive settings;

(ii) Demonstrate knowledge of current educational issues and policy initiatives in educating children who are deaf-blind; and

(iii) Present information about the state of implementation of effective TA systems in SEAs, LEAs, LAs, and EIS providers serving professionals and others involved in providing services that promote academic achievement and improved results for children who are deaf-blind; and

(3) Result in improved educational outcomes for children who are deaf-blind, and the likely magnitude or importance of the outcomes.

(b) Demonstrate, in the narrative section of the application under “Quality of the Project Services,” how the proposed project will—

(1) Identify the needs of the intended recipients of TA and training;

(2) Ensure that services and products meet the needs of the intended recipients;

(3) Achieve its goals, objectives, and intended outcomes. To meet this requirement, the applicant must provide—

(i) Measureable intended project outcomes; and

(ii) The theory of action (i.e., logic model) on how the proposed project will achieve its intended outcomes.

(4) Use a conceptual framework to guide the development of project plans and activities, describing any underlying concepts, assumptions, expectations, beliefs, or theories; the presumed relationship or linkages among these variables; and any empirical support for this framework;

(5) Be based on current research and evidence-based practices. To meet this requirement, the applicant must describe—

(i) The current research and evidence-based practices on ensuring access to the general education curriculum and improving educational results and functional outcomes for children who are deaf-blind, including graduating from high school ready for college and a career;

(ii) How the proposed project will incorporate the current research and evidence-based practices on effective training and professional development to support training and TA to the family members and practitioners identified in paragraph (a); and

(iii) The process the proposed project will use to incorporate current research and evidence-based practices in the development and delivery of its products and services;

(6) Develop products and provide services that are of sufficient quality, intensity, and duration to achieve the intended outcomes of the proposed project. To address this requirement, the applicant must describe—

(i) Its proposed activities to identify or develop a knowledge base of evidence-based practices addressing the early intervention, related services, educational, transitional, and functional needs of children who are deaf-blind;

(ii) Its proposed approach to universal, general TA,⁴ including the intended recipients of products and services;

⁴ Within the context of the National Center on Deaf-Blindness, “universal, general TA” means TA and information provided to independent users through their own initiative resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(iii) Its proposed approach to targeted, specialized TA,⁵ including the intended recipients of products and services; and

⁵ Within the context of the National Center on Deaf-Blindness, “targeted, specialized TA” means TA service based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(iv) Its proposed approach to intensive, sustained TA,⁶ including the intended recipients of products and services. To address this requirement, the applicant must describe—

⁶ Within the context of the National Center on Deaf-Blindness, “intensive, sustained TA” means services often provided on-site and requiring a stable, ongoing relationship between the TA center staff and the TA recipient. “TA services” are defined as negotiated series of activities designed to reach a valued outcome. This category of TA should result in changes to policy, program, practice, or operations that support increased recipient capacity or improved outcomes at one or more systems levels.

(A) Its proposed approach to measure the readiness of State or multi-State deaf-blind projects to work with the proposed project, including their commitment to the project initiatives, current infrastructure, available resources, ability to build supports for families, and build skills of the LEAs and EIS providers to provide TA and training to teachers, EIS providers, and other service providers;

(B) Its proposed plan for assisting State or multi-State deaf-blind projects to build professional development systems for SEAs, LEAs, LAs, and EIS providers based on the current research and evidence-based practices on effective training and professional development; and

(C) Its proposed plan for working with individuals and entities at each level of the education system (e.g., SEAs, LAs, Regional Resource Centers, Regional Comprehensive Centers, LEAs, EIS providers, schools, and families) to ensure communication among the different groups and that there are systems in place to support the use of best practices for educating children who are deaf-blind.

(7) Develop products and implement services to maximize the effectiveness of the TA. To address this requirement, the applicant must describe—

(i) How the proposed project will use technology to achieve the proposed project outcomes;

(ii) With whom the proposed project will collaborate and the intended outcomes of this collaboration; and

(iii) How the proposed project will use non-project resources to achieve the proposed project outcomes.

(c) Demonstrate, in the narrative section of the application under “Quality of the Evaluation Plan,” how—

(1) The proposed project will collect and analyze data on specific and measurable goals, objectives, and outcomes of the project in addressing the educational, related services, transitional, and early intervention needs of children who are deaf-blind to ensure that these children will graduate from high school ready for college and a career. To address this requirement, the applicant must describe—

(i) The proposed evaluation methodologies, including instruments, data collection methods, and possible analyses;

(ii) The proposed standards or targets for determining effectiveness; and

(iii) The proposed methods for collecting data on implementation supports and fidelity of implementation.

(2) The proposed project will use the evaluation results to examine the effectiveness of the project's implementation strategies and the progress toward achieving intended outcomes; and

(3) The methods of evaluation will produce quantitative and qualitative data that demonstrate whether the project achieved the intended outcomes.

(d) Demonstrate, in the narrative section of the application under “Adequacy of Project Resources,” how—

(1) The proposed project will ensure equal access and treatment in employment of persons who are members of groups that have traditionally been underrepresented based on race, color, national origin, linguistic diversity, gender, age, or disability, as appropriate;

(2) The proposed key project personnel, consultants, and subcontractors have the qualifications and experience to carry out the proposed activities and achieve the project's intended outcomes;

(3) The applicant and any key partners have adequate resources to carry out proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as appropriate; and

(ii) Timelines and milestones for accomplishing the project tasks;

(2) Key project personnel, and any consultants and subcontractors, will be allocated to the project and the appropriateness and adequacy of these time allocations to achieve the project's intended outcomes;

(3) The proposed management plan will ensure that the products and services provided are of high quality;

(4) The proposed project will dedicate at least one full-time staff member to evaluating the ongoing efforts of State and multi-State projects to ensure children who are deaf-blind have access to the general education curriculum and will graduate from high school ready for college and a career; and

(5) The proposed project will benefit from a diversity of perspectives, including families, educators, TA providers, researchers, and policy makers, among others, in its development and operation.

(f) In the narrative under “Required Project Assurances” or appendices as directed, meet the following application requirements—

(1) Include in Appendix A a logic model that depicts, at a minimum, the goals, activities, outputs, and intended outcomes of the proposed project. A logic model communicates how a project will achieve its intended outcomes and provides a framework for both the formative and summative evaluations of the project.

Note: The following Web sites provide more information on logic models: www.researchutilization.org/matrix/logicmodel_resource3c.html and http://www.tadnet.org/pages/589;

(2) Include in Appendix A a visual representation of the conceptual framework, if a visual representation is developed;

(3) Include in Appendix A charts and timelines, as appropriate, to illustrate the management plan described in the narrative;

(4) Include in the budget attendance at the following:

(i) A one and one-half day kick-off meeting to be held in Washington, DC, after receipt of the award, and an annual planning meeting in Washington, DC, with the OSEP project officer and other relevant staff, during each subsequent year of the project period.

Note: Within 30 days of receipt of the award, a post-award teleconference must be held between the OSEP project officer and the grantee's project director or other authorized representative;

(ii) A two and one-half day project directors' conference in Washington, DC, during each year of the project period;

(iii) One trip annually to attend Department briefings, Department-sponsored conferences, and other meetings, as requested by OSEP; and

(iv) A one-day intensive review meeting that will be held during the last half of the second year of the project period.

(5) Include in the budget a line item for an annual set-aside of five percent of the grant amount to support emerging needs that are consistent with the proposed project's intended outcomes, as those needs are identified in consultation with OSEP.

Note: With approval from the OSEP project officer, the project must reallocate any remaining funds from this annual set-aside no later than the end of the third quarter of each budget period; and

(6) Maintain a Web site that meets government or industry-recognized standards for accessibility.

Fourth and Fifth Years of the Project for Focus Area B:

In deciding whether to continue funding the project for Focus Area B for the fourth and fifth years, the Secretary will consider the requirements of 34 CFR 75.253(a), as well as—

(a) The recommendation of a review team consisting of experts selected by the Secretary. This review will be conducted during a one-day intensive meeting in Washington, DC, that will be held during the last half of the second year of the project period;

(b) The timeliness and effectiveness with which all requirements of the negotiated cooperative agreement have been or are being met by the project; and

(c) The quality, relevance, and usefulness of the project's activities and products and the degree to which the project's activities and products are aligned with the project's objectives and likely to result in the project achieving its proposed outcomes.

References:

Bruce, S. M. (2007). Teacher preparation for the education of students who are deaf-blind: A retrospective and prospective view. Deaf-Blind Perspectives, 14(2).

Emerson, J., & Bishop, J. (2012). Videophone technology and students with deaf-blindness: A method for increasing access and communication. Journal of Visual Impairment & Blindness, 106(10), 622-633.

Kamenopoulou, L. (2012). A study on the inclusion of deaf-blind young people in mainstream schools: Key findings and implications for research and practice. British Journal of Special Education, 39(3), 137-145.

National Center on Low-Incidence Disabilities. (2005, April 24). New personnel produced by programs, 2003-2004. Retrieved from www.nationaldb.org/dbp/apr2007.htm.

National Center on Severe and Sensory Disabilities. (2009). 1995-2006 graduate and enrollment survey data for personnel preparation in visual disabilities. Retrieved from www.unco.edu/ncssd/research/gradsurvey/2006-2007/GES_Data_Reports.shtml.

National Consortium on Deaf-Blindness. (2012). The 2011 national child count of children and youth who are deaf-blind. Retrieved from www.nationaldb.org/TAChildCount.php.

Smale, K. (2010). Helping students toward independence: The Steps Program at Utah State School for Deaf-Blind. Odyssey: New Directions in Deaf Education, 11(1), 47-49.

Waiver of Proposed Rulemaking: Under the Administrative Procedure Act (APA) (5 U.S.C. 553) the Department generally offers interested parties the opportunity to comment on proposed priorities and requirements. Section 681(d) of IDEA, however, makes the public comment requirements of the APA inapplicable to the priorities and requirements in this notice.

Program Authority: 20 U.S.C. 1463 and 1481.

Applicable Regulations: (a) The Education Department General Administrative Regulations (EDGAR) in 34 CFR parts 74, 75, 77, 79, 80, 81, 82, 84, 86, 97, 98, and 99. (b) The Education Department debarment and suspension regulations in 2 CFR part 3485.

Note: The regulations in 34 CFR part 79 apply to all applicants except federally recognized Indian tribes.

Note: The regulations in 34 CFR part 86 apply to institutions of higher education (IHEs) only.

II. Award Information

Type of Award: Cooperative agreements.

Estimated Available Funds: $11,600,000.

Contingent upon the availability of funds and the quality of applications, we may make additional awards in FY 2014 from the list of unfunded applicants from this competition.

Estimated Range of Awards: Focus Area A: See chart. Focus Area B: $2,100,000.

Estimated Average Size of Awards: Focus Area A: $176,000. Focus Area B: $2,100,000.

Maximum Award: Focus Area A: The following chart lists the maximum amount of funds for individual States and regions for a single budget period of 12 months. A State may be served by only one supported project. In determining the maximum funding levels for each State the Secretary considered, among other things, the following factors:

(1) The total number of children from birth through age 21 in the State.

(2) The number of people in poverty in the State.

(3) The previous funding levels.

(4) The maximum and minimum funding amounts.

FY 2013 Funding Levels by Region for Focus Area A
Region 1 | Total: $1,770,926
CT | 104,751
MA | 126,661
ME | 65,000
NH | 65,807
NJ | 268,086
NY | 575,000
PA | 371,952
RI | 79,368
VT | 114,301
Region 2 | Total: 1,543,279
DC | 65,000
DE | 83,362
KY | 165,145
MD | 164,366
NC | 313,649
SC | 154,204
TN | 238,451
VA | 234,082
WV | 125,020
Region 3 | Total: 2,052,453
AL | 185,095
AR | 118,534
FL | 362,027
GA | 305,978
LA | 145,840
MS | 133,605
OK | 131,374
PR | 65,000
TX | 575,000
VI | 30,000
Region 4 | Total: 1,700,148
IA | 97,054
IL | 335,444
IN | 210,093
MI | 256,289
MN | 171,335
MO | 197,129
OH | 259,320
WI | 173,484
Region 5 | Total: 1,066,830
AZ | 175,338
CO | 154,079
KS | 128,122
MT | 106,123
ND | 65,000
NE | 78,471
NM | 100,912
SD | 101,746
UT | 92,039
WY | 65,000
Region 6 | Total: 1,366,364
AK | 106,971
CA | 575,000
HI | 77,491
ID | 85,303
NV | 112,563
OR | 121,286
WA | 195,750
Pacific** | 92,000
**The areas to be served by this award are the outlying areas of American Samoa, Guam, and the Commonwealth of the Northern Mariana Islands as well as the freely associated States of the Republic of the Marshall Islands, the Federated States of Micronesia, and the Republic of Palau. An applicant for this award must propose to serve all of these areas.

We will reject an application under Focus Area A of the priority under any of the following circumstances:

(a) A State project that proposes a budget exceeding the funding level listed in this notice for that State for any single budget period of 12 months.

(b) An application for a region that does not include every State specified for that region as described under the Focus Area A priority in this notice.

(c) An application for a region that includes States outside of the predetermined regions as described under the Focus Area A priority in this notice.

(d) An application for a region or consortium that proposes a budget exceeding the funding level for any single budget period of 12 months of the combined funding for each State member of the region or consortium as specified in the FY 2013 Funding Levels by Region for Focus Area A chart.

We will reject an application under Focus Area B of the priority under any project that proposes a budget exceeding the funding level listed in this notice for any single budget period of 12 months.

Note: The Assistant Secretary for Special Education and Rehabilitative Services may change the maximum amount through a notice published in the Federal Register.

Estimated Number of Awards: Focus Area A: 54.

Focus Area B: 1.

Note: The Department is not bound by any estimates in this notice.

Project Period: Up to 36 months with an optional additional 24 months based on performance. Applications must include plans for both the 36-month award and the 24-month extension.

III. Eligibility Information

1. Eligible Applicants: SEAs; LEAs, including public charter schools that are considered LEAs under State law; IHEs; other public agencies; private nonprofit organizations; freely associated States and outlying areas; Indian tribes or tribal organizations; and for-profit organizations.

With respect to Focus Area A of the priority, in order to provide SEAs with greater flexibility in how TA is delivered and ensure high-quality TA, individual States have the following options: (1) Participating in a regional project; (2) participating as a member of a multi-State consortium; or (3) applying directly for funds as a single State. Therefore, eligible applicants for funds awarded under Focus Area A of this absolute priority may be an entity serving a predetermined region of States, a multi-State consortium, or a single State. The predetermined regions are the six OSEP Regional Resource Center regions—

Region 1: Connecticut, Massachusetts, Maine, New Hampshire, New Jersey, New York, Pennsylvania, Rhode Island, and Vermont;

Region 2: District of Columbia, Delaware, Kentucky, Maryland, North Carolina, South Carolina, Tennessee, Virginia, and West Virginia;

Region 3: Alabama, Arkansas, Florida, Georgia, Louisiana, Mississippi, Oklahoma, Puerto Rico, Texas, and the Virgin Islands;

Region 4: Iowa, Illinois, Indiana, Michigan, Minnesota, Missouri, Ohio, and Wisconsin;

Region 5: Arizona, Colorado, Kansas, Montana, North Dakota, Nebraska, New Mexico, South Dakota, Utah, and Wyoming;

Region 6: Alaska, California, Hawaii, Idaho, Nevada, Oregon, Washington, American Samoa, Guam, the Commonwealth of the Northern Marianas, States of the Republic of the Marshall Islands, the Federated States of Micronesia, and the Republic of Palau.

Eligible applicants under Focus Area A of this priority are invited to submit single-State applications to provide deaf-blind TA services to individual States, as they have done in the past. If a State is included in more than one application as a member of a consortium or predefined region or submits an individual State application, and more than one application is determined to be fundable for the State, the State will be given the option under which award (individual State, consortium, or region) it will receive funding. It may not be funded under multiple awards. If a State(s) chooses not to participate in a predetermined region, the predetermined region's funding would be reduced by the amount of the award(s) that would be made for the individual State(s) application. The maximum level of funding for a consortium or region will reflect the combined total that the eligible entities comprising the consortium or region would have received if they had applied separately. For States within consortia or regions, no State will be permitted to receive less services or supports than it would have received under a previously held Deaf-Blind State grant.

2. Cost Sharing or Matching: This program does not require cost sharing or matching.

3. Other General Requirements: (a) Recipients of funding under this program must make positive efforts to employ and advance in employment qualified individuals with disabilities (see section 606 of IDEA).

(b) Each applicant for, and recipient of, funding under this program must involve individuals with disabilities, or parents of individuals with disabilities ages birth through 26, in planning, implementing, and evaluating the project (see section 682(a)(1)(A) of IDEA).

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.326T.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of Part III.

We will reject your application if you exceed the page limit; or if you apply other standards and exceed the equivalent of the page limit.

3. Submission Dates and Times: Applications Available: July 1, 2013.

Deadline for Transmittal of Applications: August 15, 2013.

Applications for grants under this competition must be submitted electronically using the Grants.gov Apply site (Grants.gov). For information (including dates and times) about how to submit your application electronically, or in paper format by mail or hand delivery if you qualify for an exception to the electronic submission requirement, please refer to section IV.

7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This program is subject to Executive Order 12372 and the regulations in 34 CFR part 79. However, under 34 CFR 79.8(a), we waive intergovernmental review in order to make awards by the end of FY 2013.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The SAM registration process may take seven or more business days to complete. If you are currently registered with the SAM, you may not need to make any changes. However, please make certain that the TIN associated with your DUNS number is correct. Also note that you will need to update your registration annually. This may take three or more business days to complete. Information about SAM is available at SAM.gov.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this competition must be submitted electronically unless you qualify for an exception to this requirement in accordance with the instructions in this section.

a. Electronic Submission of Applications.

Applications for grants under the State Technical Assistance Projects to Improve Services and Results for Children Who Are Deaf-Blind and National Technical Assistance and Dissemination Center for Children Who Are Deaf-Blind competition, CFDA number 84.326T, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the State Technical Assistance Projects to Improve Services and Results for Children Who Are Deaf-Blind and National Technical Assistance and Dissemination Center for Children Who Are Deaf-Blind competition at www.Grants.gov. You must search for the downloadable application package for this competition by the CFDA number. Do not include the CFDA number's alpha suffix in your search (e.g., search for 84.326, not 84.326T).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (a Department-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Jo Ann McCann, U.S. Department of Education, 400 Maryland Avenue SW., Room 4076, Potomac Center Plaza (PCP), Washington, DC 20202-2600. FAX: (202) 245-7617.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.326T) LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.326T), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that, for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993, the Department has established a set of performance measures, including long-term measures, which are designed to yield information on various aspects of the effectiveness and quality of the Technical Assistance and Dissemination to Improve Services and Results for Children with Disabilities program. These measures focus on the extent to which projects provide high-quality products and services, the relevance of project products and services to educational and early intervention policy and practice, and the use of products and services to improve educational and early intervention policy and practice.

Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Jo Ann McCann, U.S. Department of Education, 400 Maryland Avenue SW., room 4076, PCP, Washington, DC 20202-2600. Telephone: (202) 245-7434.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 26, 2013.
Michael K. Yudin,
Delegated the authority to perform the functions and duties of the Assistant Secretary for Special Education and Rehabilitative Services.

[FR Doc. 2013-15715 Filed 6-28-13; 8:45 am]

BILLING CODE 4000-01-P